DEPARTMENT OF DEFENSE

Office of the Secretary

DoDEA FY 2011 Grant Program

AGENCY: Department of Defense Education Activity, DoD.

ACTION: Notice.

SUMMARY: The Department of Defense Education Activity (DoDEA) seeks requests for consideration (RFC) from eligible local educational agencies (LEA).

DATES:

1. Deadline for Transmittal of RFCs: 21 Feb 11.

2. Full Applications Available (invitation only): On or about 18 Mar 11.

3. Deadline for Transmittal of Full Applications: 29 Apr 11.

4. Grants Awarded: 01-30 Jun 11.

FOR FURTHER INFORMATION CONTACT: Mr. Brian Pritchard, Contracts and Grants Liaison, DoDEA, e-mail: brian.pritchard@hq.dodea.edu, telephone: 703-588-3345.

SUPPLEMENTARY INFORMATION: Funding Opportunity Description: DoDEA announces the FY 2011 grant program and seeks requests for consideration (RFC) from eligible local educational agencies (LEAs). Approximately $30 million is expected to be awarded, depending on the availability of funding. Projected period of performance is 01 Jun 11 to 31 Aug 14. Awards will be based on military dependent student enrollment and will range in size from $100,000 to $2,500,000. DoDEA estimates that 25-35 grants will be awarded.

The Department's aim is to improve student achievement, increase educational opportunities, ensure student preparation for success in college and careers, and ease the challenges that transitions and deployments have on military dependent students.

To be eligible to apply an LEA must have a military dependent student population of at least five percent AND have one or more schools that have a military dependent student population of at least 15 percent. LEAs will certify the numbers and percentages of students, using their Federal Impact Aid data.

The RFC may be found at http://www.militaryk12partners.dodea.edu. The RFC is due on February 21, 2011. After being reviewed, the highest scoring LEAs will be invited to submit full proposals. Awards are expected to be made June 1-30, 2011.

Authorization: Section 574(d) of Public Law 109-364, as amended; Title 10 U.S.C. 2192(b) and Title 10 U.S.C. 2193a

CFDA Number

• CFDA 12.556: Competitive Grants: Promoting K-12 Student Achievement at Military-Connected Schools, or

• CFDA 12.557: Invitational Grants for Military-Connected Schools.

PK-12 Education: The Department of Defense considers the education of the dependents of members of the Armed Forces to be a critical quality of life and readiness concern. The quality of K-12 education is an important criterion for military families as they make career decisions on assignments and is linked to retention in the Military Services. A significant element of family readiness is an educational system that recognizes and responds to the unique needs of the children of military families by not only providing a quality education but also easing the challenges military dependent students face due to transitions and deployments.

Eligibility: Eligibility is determined through a two-step process. The first step is that the LEA must have a military dependent student population of at least five percent. The second step is based on the size and percentage of the military dependent student population measured at the school, not district level, and on whether or not the school has previously received DoDEA grant funds.

• School Level: LEAs may only apply to receive funds for school(s) with a military dependent student population of at least 15 percent. Each LEA will certify the numbers and percentages it reports, using Federal Impact Aid data.

• Definition: The term, military dependent student, is defined as an elementary or secondary school student who is a dependent of a member of the Armed Forces or a civilian employee of the Department of Defense who is employed on Federal property.

• Current Awardees: Current awardees of DoDEA grant funds are eligible to apply for FY11 funds if they meet the aforementioned criteria and are applying for schools that have not already been targeted/listed in their current grant awards.

Award Information

Project Period: 01 Jun 11 to 31 Aug 14.

Estimated Available Funds: $30,000,000.

Estimated Range of Awards: $100,000 to $2,500,000.

Estimated Average Award Size: $1,000,000.

Estimated Number of Awards: 25-35.

Minimum Award: $100,000 (80 or fewer military dependent students).

Maximum Award: $2,500,000 (2,000 or more military dependent students).

Expected Dates

• RFC Applications Available: on or about 07 Jan 11.

• RFC Information Posted: On or about 07 Jan 11.

• Live Technical Assistance #1: 14 Jan 11, 1 p.m. to 2:30 p.m. EST.

• Deadline for Intent to Apply (optional): 24 Jan 11.

• Live Technical Assistance #2: 02 Feb 11, 1 p.m. to 2:30 p.m. EST.

• Deadline for Transmittal of RFCs: 21 Feb 11, 5 p.m. EST.

• Deadline for Intergovernmental Review: 07 Mar 11.

• Full Applications Available (by invitation only): On or about 18 Mar 11.

• Deadline for Transmittal of Full Applications: 29 Apr 11, 5 p.m. EST.

• Grants Awarded: 01-30 Jun 11.

RFC Contents and Selection Criteria: The RFC consists of a cover page, introduction, needs assessment, project synopsis, and appendices (optional). The introduction, needs assessment, and project synopsis are limited to a maximum of three pages. The appendix is limited to a maximum of two pages of charts/graphs/tables that support the needs assessment. The selection criteria are shown below:

RFC categories | Maximum (points)
Needs Assessment/Analysis | 80
Project Synopsis | 20
Preference Priority | 5*
Total | 100-105
* See Preference Priority (below).

RFC Introduction (0 points): The introduction should orient the reviewer who may not be familiar with your area/schools. It should provide an overview of your LEA, including the relationship with the military installation(s) being served by the target schools. Although ungraded, it is part of the 3-page application. It must include enrollment data from the targeted schools or school groups in chart form, using one of the examples below. Recommended length: 0.5 page.

Target schools | Grades | Number of schools | Enrollment, SY10-11: Military | Enrollment, SY10-11: Other | Enrollment, SY10-11: Total | Percentage of military
ABC elementary | K-5 | 1 | 500 | 100 | 600 | 83.3
DEF elementary | K-5 | 1 | 500 | 300 | 800 | 62.5
XYZ High School | 9-12 | 1 | 300 | 1,700 | 2,000 | 15.0
Target Total | K-5/9-12 | 3 | 1,300 | 2,100 | 3,400 | 38.2
LEA Totals | K-12 | 40 | 1,800 | 20,200 | 22,000 | 8.2

Target schools | Grades | Number of schools | Enrollment, SY10-11: Military | Enrollment, SY10-11: Other | Enrollment, SY10-11: Total | Percentage of military
Elementary | K-5 | 6 | 1,000 | 200 | 1,200 | 83.3
Middle | 6-8 | 2 | 1,000 | 600 | 1,600 | 62.5
High | 9-12 | 2 | 600 | 3,400 | 4,000 | 15.0
Target Total | K-12 | 10 | 2,600 | 4,200 | 6,800 | 38.2
LEA Totals | K-12 | 60 | 3,600 | 40,400 | 44,000 | 8.2

RFC Needs Assessment (up to 80 points): The needs assessment is the primary factor in determining which LEAs will be invited to submit a full application. Recommended length: 1.5-2.0 pages.

An effective needs assessment clearly:

1. States the problem, showing who is affected by the problem, when and where the problem exists, and what has caused it.

2. Presents multiple sources of data to confirm the existence of the problem, Data may include:

• Quantitative (e.g., test scores, absentee rates).

• Qualitative in support of quantitative data (e.g., results from interviews, focus groups).

• Multiple methods (e.g., surveys, analysis of school records, previous studies, focus groups) and multiple sources (e.g., teachers, students, parents).

• Comparisons, if applicable, comparisons to neighboring LEAs' data, State data, and/or national data.

3. Briefly discusses current or past efforts to address the problem and why those efforts failed or are inadequate to address the total need and the consequences of not dealing with the problem.

4. Presents the need LEA staff have for professional development in the selected program area.

5. Up to two pages of tables, charts, or graphs may be appended to the Request for Consideration.

RFC Project Synopsis (up to 20 points): The LEA must state the program area(s) it will address. The synopsis should briefly describe what will be accomplished, who will implement it, and the key strategies that are expected to be used. The program area(s) selected must address the needs documented in the needs assessment. See the comments below regarding the full application to better understand the parameters that may be used in developing a project. Recommended length: 0.5-1.0 page.

RFC Preference Priorities: An LEA will receive additional preference points if it meets one or both of the following priorities:

• Three points: The LEA experienced ten percent or more growth in the district's military dependent student population between the 2008-09 school years and 2009-10 school years.

• Two points: The LEA's target schools for this project have a military student population that equals or exceeds 40 percent.

RFC Rubrics:

RFC categories | Points
Introduction |
Needs Assessment | 80
1. Clearly stated problem | (20)
2. Multiple data sources | (40)
3. Past efforts and consequences | (10)
4. Related training needs | (10)
Project Synopsis | 20
1. Responds to documented needs | (10)
2. Presents a reasonable plan | (10)
Preference Priorities | Up to 5
Total Points | 100-105

RFC Review: A team of peer reviewers will rate each RFC. The highest scoring RFCs will be invited to submit a full application.

RFC Submission Requirements: Specific submission instructions are provided in the RFC application.

FY 2011 DoDEA Grant Program Parameters

The following information on DoDEA's FY 2011 grant program is aimed at helping LEAs design an appropriate program synopsis.

Serving All Students

Although grant funding is calculated on the basis of military student enrollment, it is expected that proposed programs will serve all students military and non-military at the target schools. The exception is the Support Program which must focus solely on military dependent students.

Application Focus

DoDEA seeks proposals that use research-based practices to enhance student learning opportunities, student achievement, and/or educator professional development. The five program areas (in alphabetical order) are Early Learning, K-12 Academic, Online Education, Special Education, and Support Program.

Anticipated Awards

The range of awards is based on the following numbers of military dependent students at the target school(s). It is anticipated that LEAs will receive official award documentation on or about June 1, 2010.

*emsp;
Total military dependent students at target school(s) | Minimum award | Maximum award
100 or fewer | $100,000 | $135,000
101-200 | 135,000 | 270,000
201-300 | 270,000 | 405,000
501-400 | 405,000 | 540,000
401-500 | 540,000 | 675,000
501-600 | 675,000 | 810,000
601-700 | 810,000 | 945,000
701-800 | 945,000 | 1,080,000
801-900 | 1,080,000 | 1,215,000
901-1,000 | 1,215,000 | 1,350,000
1,001-1,100 | 1,350,000 | 1,485,000
1,101-1,200 | 1,485,000 | 1,620,000
1,201-1,300 | 1,620,000 | 1,755,000
1,301-1,400 | 1,755,000 | 1,890,000
1,401-1,500 | 1,890,000 | 2,025,000
1,501-1,600 | 2,025,000 | 2,160,000
1,601-1,700 | 2,160,000 | 2,295,000
Above 1,700 | 2,295,000 | 2,500,000

Budget Definitions, Restrictions, and Requirements

• For budgeting purposes, the grant years will be as follows:

Year 1: 01 Jun 11 to 31 Aug 12

Year 2: 01 Sep 12 to 31 Aug 13

Year 3: 01 Sep 13 to 31 Aug 14

• The term, full-time equivalent (FTE), usually refers to fully benefitted positions.

• For all program areas, except Support Program, up to 25 percent of Federal funds may be allocated to fulltime equivalent (FTE) positions. For Support Programs, discussed below, LEAs may propose a higher percentage of Federal funds for FTE positions.

• Examples of non-FTE personnel costs include stipends for teachers, wages to afterschool tutors, and costs for substitute teachers.

• Although fringe benefits for grant-funded FTE positions are an allowable cost, no grants funds may be allocated for administrative or indirect costs.

• Fringe benefits are defined as costs in the form of employer contributions or expenses for employee benefits such as: social security; employee life, health, unemployment, and worker's compensation insurance (except as indicated in OMB Circular A-87, Attachment B, No. 22), and other similar benefits for employees expected to work solely on this grant.

Six Key Programmatic Considerations

1. Absolute Priorities: The full application must comprehensively address one or two of the five program areas detailed below. It must provide evidence of sufficient commitment to successfully implement/achieve the goals in its plans and to sustain the program after grant funding ends.

2. Research-Based Strategies: DoDEA requires the use of strategies that have demonstrated effectiveness. Commercial and/or non-commercial research-based strategies may be proposed.

3. Capacity Building: Projects should build capacity to sustain the program after grant funding ends.

4. Serving Subsets of Students: LEAs may focus their projects on a subset of students at the target school(s). For example, an elementary program may focus on grades 3-5.

5. Evaluation: During the grant period, student data must be disaggregated at the school level for the military dependent student population. DoDEA requires at least three percent of grant funds be spent on an external (third-party) evaluator.

6. Program Areas: Based on the needs assessment, LEAs will select one or two of the following five program areas on which to focus their projects.

○ Early Learning: To meet this priority, the application must address the need to offer a rigorous course of study aligned to the prekindergarten reading, writing, mathematics, science, and/or social studies curricula. Selected programs must be based on research-based practices and include a sustained professional development component.

○ K-12 Academic Program: To meet this priority, the application must have a high quality plan to address one of the following three areas:

■ English/Reading: The application must address the need to offer a rigorous course of study in English language arts and/or reading. Selected programs must be based on research-based practices and include a sustained professional development component.

■ Science, Technology, Engineering, and Mathematics (STEM): The application must address the need to (1) offer a rigorous course of study in mathematics, the sciences, technology, and/or engineering; (2) cooperate with industry experts, museums, universities, research centers, or other STEM-capable community partners to prepare and assist teachers in integrating STEM content across grades and disciplines, in promoting effective and relevant instruction, and in offering applied learning opportunities for students; and (3) prepare more students for advanced study and STEM careers. Selected programs must be based on research-based practices and include a sustained professional development component.

■ Other Curricular Areas: The application must address the need to offer a rigorous course of study in one curricular area, such as social studies, foreign language, or the fine arts. Selected programs must be based on research-based practices and include a sustained professional development component.

■ Student achievement in the academic program area must include measurements of performance on State norm- and/or criterion-referenced assessments.

○ Online Education: To meet this priority, the application must have a high-quality plan to address the need to (1) offer a rigorous course of study at the secondary level; (2) enable transitioning high school students to continue their course of study; (3) provide credit recovery for students who failed a course, (4) provide students who received a low grade in a course to improve that grade by retaking the course; and (5) prepare students for postsecondary placements in a career or institute of higher education. Online education may occur throughout the year.

○ Special Education: To meet this priority, the application must have a high-quality plan to address the needs of students with special needs. Selected programs must be based on best practices and include a sustained professional development component.

○ Support Program: To meet this priority, the application must have a high-quality plan to address the needs of the military dependent students at the target school(s) and in the LEA. The emphasis of the program must be to ease the challenges that military dependent students face due to transitions/deployments. In recent years some Support Programs have focused primarily on socio-emotional issues, and others have focused primarily on academic issues. As with the other program areas, the project design must address identified needs.

Proposal Compliance

Failure to adhere to deadlines to be specified in the forthcoming application may result in proposal rejection. Any proposal received after the exact time and date specified for receipt will not be considered. DoDEA, at its sole discretion, may accept a late proposal if it determines that no advantage has been conferred and that the integrity of the grants process will not be compromised.

Dated: January 4, 2011.
Morgan F. Park,
Alternate OSD Federal Register Liaison Officer, Department of Defense.

[FR Doc. 2011-236 Filed 1-7-11; 8:45 am]

BILLING CODE 5001-06-P